DEPARTMENT OF THE INTERIOR

Bureau of Land Management

[FY16.LLAZA00000.L17110000.DF0000.241A]

Notice of Termination of Uinkaret Mountains Landscape Restoration Project Environmental Impact Statement, Arizona

AGENCY: Bureau of Land Management, Interior.

ACTION: Notice.

SUMMARY: The preparation of an Environmental Impact Statement (EIS) for the proposed Uinkaret Mountains Landscape Restoration Project is no longer required and the process is hereby terminated. Pursuant to the National Environmental Policy Act of 1969, as implemented by the Council on Environmental Quality (CEQ) regulations, the Bureau of Land Management (BLM) on October 21, 2014, published a notice of intent (NOI) to prepare an EIS. The EIS would have analyzed proposed vegetation treatments in the Uinkaret Mountains Landscape Restoration Project area.

DATES: Termination of the EIS process for the Uinkaret Mountains Landscape Restoration Project is effective immediately.

FOR FURTHER INFORMATION CONTACT: Richard Spotts, Planning and Environmental Coordinator, (435) 688-3207; rspotts@blm.gov.

SUPPLEMENTARY INFORMATION: The BLM's Arizona Strip District Office has determined it is appropriate to terminate the Uinkaret Mountains Landscape Restoration Project EIS and prepare an Environmental Assessment (EA) instead. The NOI to prepare an EIS was published in the Federal Register on October 21, 2014 (79 FR 62954) and announced the scoping period for the proposed project. The initial project proposal listed a variety of potential vegetative treatments, including manual, mechanical, chemical, wildfire management for resource benefit, prescribed fire, and seeding for the overall project area of approximately 128,535 acres, located on lands managed by the Arizona Strip Field Office and Grand Canyon Parashant National Monument, within the Arizona Strip District.

Preliminary issues from internal and external public scoping include but are not limited to: Excessive fuel loading leading to increased wildfire risk; impacts from past management activities such as grazing and fire suppression; pinyon and juniper encroachment into sagebrush and ponderosa communities; soil erosion; and the need to treat decadent sagebrush stands.

After careful consideration of preliminary issues, public scoping comments, and field-verification of existing resource conditions, BLM modified the proposed action to specific vegetation treatment units within the overall project area, of which 18,675 acres is proposed to receive manual, mechanical, seeding, erosion control, and chemical treatments and 38,713 acres are proposed to receive fire treatments. The proposed action and one other action alternative, which would implement only the fire treatments, were developed. Design features, applicable to all action alternatives, were also modified to include special resource protections to mitigate the environmental impacts, such as avoiding all known cultural resources following intensive surveys, treating areas when soils are not saturated to minimize soil compaction, ensuring mechanical treatment equipment is cleaned prior to use to minimize the spread of noxious weeds, avoiding old growth ponderosa stands, and designing treatments in irregular shapes to reduce visual contrast.

The BLM evaluated the modified the proposed action, no action, and an alternative action, against the CEQ significance criteria (40 CFR 1508.27) and determined that the anticipated effects from the treatment methods are consistent with the preparation of an EA rather than an EIS.

Thus, the BLM hereby terminates preparation of an EIS for the proposed Uinkaret Mountains Landscape Restoration Project. National Environmental Policy Act public involvement procedures will be adhered to in the development on the Uinkaret Mountains Landscape Restoration Project EA.

Authority: 40 CFR 1506.6, 40 CFR 1506.10

Timothy J. Burke,
District Manager.

[FR Doc. 2016-18272 Filed 8-1-16; 8:45 am]

BILLING CODE 4310-32-P